DEPARTMENT OF HEALTH AND HUMAN SERVICES

Centers for Disease Control and Prevention

[60Day-15-1005; Docket No. CDC-2015-0018]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the information collection request for reinstatement with change of the collection previously approved under OMB control number 0920-1005—“Conduct an Older Adult Mobility Assessment Tool Impact Evaluation and Develop a Dissemination Plan”. This collection will help evaluate whether the Mobility Planning Tool is effective for promoting readiness to adopt mobility-protective behaviors in older adults.

DATES: Written comments must be received on or before June 8, 2015.

ADDRESSES: You may submit comments, identified by Docket No. CDC-2015-0018 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Conduct an Older Adult Mobility Assessment Tool Impact Evaluation and Develop a Dissemination Plan (OMB Control No. 0920-1005)—Reinstatement with Change—National Center for Injury Prevention and Control (NCIPC), Centers for Disease Control and Prevention (CDC).

Background and Brief Description

CDC's National Center for Injury Prevention and Control (NCIPC) requests approval for 3 years, from the Office of Management and Budget (OMB) for a reinstatement with change for the previously approved OMB No. 0920-1005 (Exp. Date: 12-31-2014) designed to evaluate whether the Mobility Planning Tool is effective for promoting readiness to adopt mobility-protective behaviors in older adults and assess potential strategies for dissemination of the Mobility Planning Tool. With this reinstatement, NCIPC requests a change of title from “Older Adult Safe Mobility Assessment Tool” to “Conduct an Older Adult Mobility Assessment Tool Impact Evaluation and Develop a Dissemination Plan.”

The population of older adults in the U.S. is growing rapidly. By 2030, this segment of the population will increase to an estimated 72 million (20% of the U.S. population). A critical public health issue for the older adult population is mobility—how well people are able to get to places they need to go. The goals of this study are to evaluate (1) whether the Mobility Planning Tool (MPT) is effective for promoting readiness to adopt mobility-protective behaviors in older adults and (2) assess potential strategies for dissemination of the MPT.

NCIPC will collect study data using telephone interviews. The study population is community-living older adults ages 60-74 with no known mobility limitations. A total of 1,000 individuals will participate in the study. Prospective respondents will answer a series of screening questions. Individuals who meet the screening criteria and are willing to participate will complete a baseline and follow-up interview each lasting approximately 10 minutes.

NCIPC will analyzed the collected data using descriptive statistics and a series of t-tests, chi-square analyses, and Mann-Whitney U-tests. Multivariate analyses will include a series of repeated measures Analysis of Variance (ANOVA), and logistic regressions.

The data collected from this study will help CDC identify what further revisions to the MPT might be necessary before it is disseminated publicly. Selected study findings may eventually be presented in oral and poster presentations and published in a peer-reviewed journal. Without this information collection, CDC will not know whether the MPT is an effective tool for promoting readiness to adopt mobility-protective behaviors in older adults and will not know whether additional revisions to the tool are necessary before the MPT is disseminated publicly. Without this study, CDC will have limited information about what strategies are most likely to be effective for disseminating the MPT publicly to the target audience.

The total estimated annual burden hours are 734.

Estimated Annualized Burden Hours
Type of respondents | Form name | Number of respondents | Number of responses per respondent | Average burden per response (in hours) | Total burden (in hours)
Individuals Responding to Initial Phone Call Who Refuse to be Screened | Screening Interview Guide | 2,500 | 1 | 1/60 | 42
Individuals Responding to Initial Phone Call Responding to Screening Questions | Screening Interview Guide | 1,500 | 1 | 5/60 | 125
Study Participants | Baseline Interview Guide | 1,000 | 1 | 10/60 | 167
Study Participants | MPT | 500 | 1 | 30/60 | 250
Study Participants | Follow-up Interview Guide | 900 | 1 | 10/60 | 150
Total |  |  |  |  | 734

Leroy A. Richardson,
Chief, Information Collection Review Office, Office of Scientific Integrity, Office of the Associate Director for Science, Office of the Director, Centers for Disease Control and Prevention.

[FR Doc. 2015-08028 Filed 4-7-15; 8:45 am]

BILLING CODE 4163-18-P